DEPARTMENT OF JUSTICE

Notice of Lodging of Consent Decree Pursuant to the Comprehensive Environmental Response, Compensation, and Liability Act

In accordance with Departmental policy in 28 CFR 50.7, notice is hereby given that on January 13, 2006, a proposed Consent Decree in United States v. Quaker City, Inc., Consolidated Civil Action Nos. 99-3715, 02-8964, 03-3231, 05-5938, was lodged with the United States District Court for the Eastern District of Pennsylvania.

In this action, the United States sought recovery of environmental response costs incurred by the United States in connection with the Malvern TCE Superfund Site, located in Chester County, PA. The Consent Decree requires the settling Defendant to pay the United States the sum of $600,000.

The Department of Justice will receive for a period of thirty (30) days from the date of this publication comments relating to the Consent Decree. Comments should be addressed to the Assistant Attorney General, Environment and Natural Resources Division, P.O. Box 7611, U.S. Department of Justice, Washington, DC 20044-7611, and should refer to U.S. v. Quaker City Inc., D.J. Ref. #90-11-3-08512. The Consent Decree may also be examined at the Office of the United States Attorney, Eastern District of Pennsylvania, c/o Marilyn May, Assistant United States Attorney, 615 Chestnut Street, Philadelphia, PA 19106; and at U.S. EPA Region III, c/o Joan A. Johnson, Assistant Regional Counsel, 1650 Arch Street, Philadelphia, PA 19103. During the public comment period, the Consent Decree may be examined on the Department of Justice Web site: http://www.usdoj.gov/enrd/open/html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $6.75 for the Consent Decree (25 cents per page reproduction cost) payable to the U.S. Treasury.

W. Benjamin Fisherow,
Deputy Chief, Environmental Enforcement Section, Environment and Natural Resources Division.

[FR Doc. 06-926 Filed 1-31-06; 8:45 am]

BILLING CODE 4410-15-M